DEPARTMENT OF AGRICULTURE

Agricultural Marketing Service

7 CFR Part 1260

[Doc. No. AMS-LPS-16-0071]

Beef Promotion and Research; Reapportionment

AGENCY: Agricultural Marketing Service, USDA.

ACTION: Proposed rule; extension of comment period.

SUMMARY: Notice is hereby given that the comment period for the proposed rule published in the Federal Register on January 13, 2017 (82 FR 4203), is extended until April 13, 2017. The proposed rule invited comments on proposed adjustments to representation on the Cattlemen's Beef Promotion and Research Board (Board) to reflect recent changes in domestic cattle inventories and levels of imported cattle, beef, and beef products. The proposed adjustment would decrease Board membership from 100 to 99.

DATES: Comments received by April 13, 2017, will be considered prior to issuance of a final rule.

ADDRESSES: Interested persons are invited to submit comments via the Internet at: http://www.regulations.gov. Comments may also be submitted by mail to: Mike Dinkel, Agricultural Marketing Specialist; Research and Promotion Division; Livestock, Poultry, and Seed Program, AMS, USDA; Room 2610-S, STOP 0249, 1400 Independence Avenue SW., Washington, DC 20250-0249; or via fax to (202) 720-1125. All comments should reference the document number and the dates and page numbers of the January 13, 2017, issue and this issue of the Federal Register. All comments received will be posted online without change, including any personal information provided, and will be made available for public inspection at the above physical address during regular business hours.

FOR FURTHER INFORMATION CONTACT: Mike Dinkel, Research and Promotion Division, at (301) 352-7497; fax (202) 720-1125; or email Michael.Dinkel@ams.usda.gov.

SUPPLEMENTARY INFORMATION: A proposed rule regarding the apportionment of certified producer and importer seats on the Board was published in the Federal Register on January 13, 2017 (82 FR 4203). The Board developed recommendations for reapportionment based on reviews of the geographic distribution of cattle inventories throughout the United States and the volume of imported cattle, beef, and beef products. The proposal would increase the number of importers on the Board by one, and it would decrease the number of producers from both Virginia and Texas by one each, for a net decrease of one Board member. If adopted, the proposed reapportionment would be effective with appointments for terms beginning in 2018.

The 60-day comment period provided in the proposed rule would have closed March 14, 2017. The comment period for the proposed rule is extended until April 13, 2017.

Authority: 7 U.S.C. 2901-2911.

Dated: February 14, 2017.
Bruce Summers,
Acting Administrator, Agricultural Marketing Service.

[FR Doc. 2017-03251 Filed 2-16-17; 8:45 am]

BILLING CODE 3410-02-P